DEPARTMENT OF HEALTH AND HUMAN SERVICES

Public Meeting of the President's Council on Bioethics on April 1-2, 2004

AGENCY: The President's Council on Bioethics, HHS.

ACTION: Notice.

SUMMARY: The President's Council on Bioethics (Leon R. Kass, M.D., chairman) will hold its sixteenth meeting, at which, among other things, it will release a report on the regulation of biotechnologies touching the beginnings of human life; continue its discussion of neuroethics; and begin discussing ethical issues relating to dementia and end-of-life care. Guest presenters will include neuroscientists Fred Gage of the Salk Institute; Thomas Jessell of Columbia University; and Jerome Kagan and Elizabeth Spelke of Harvard University. Subjects discussed at past Council meetings (and potentially touched on at this meeting) include: embryo research, assisted reproduction, reproductive genetics, IVF, ICSI, PGD, sex selection, inheritable genetic modification, patentability of human organisms, aging retardation, lifespan-extension, and organ procurement for transplantation. Publications issued by the Council to date include: Human Cloning and Human Dignity: An Ethical Inquiry (July 2002); Beyond Therapy: Biotechnology and the Pursuit of Happiness (October 2003); Being Human: Readings from the President's Council on Bioethics (December 2003); and Monitoring Stem Cell Research (January 2004).

DATES: The meeting will take place Thursday, April 1, 2004, from 9 a.m. to 5:15 p.m. e.t.; and Friday, April 2, 2004, from 8:30 a.m. to 12:30 p.m. e.t.

ADDRESSES: Hyatt Regency Crystal City at Reagan National Airport, 2799 Jefferson Davis Highway, Arlington, VA 22202.

Agenda: The meeting agenda will be posted at http://www.bioethics.gov.

Public Comments: The Council encourages public input, either in person or in writing. At this meeting, interested members of the public may address the Council, beginning at 11:30 a.m., on Friday, April 2. Comments are limited to no more than five minutes per speaker or organization. As a courtesy, please inform Ms. Diane Gianelli, Director of Communications, in advance of your intention to make a public statement, and give your name and affiliation. To submit a written statement, mail or e-mail it to Ms. Gianelli at one of the addresses given below.

FOR FURTHER INFORMATION CONTACT: Ms. Diane Gianelli, Director of Communications, The President's Council on Bioethics, Suite 700, 1801 Pennsylvania Avenue, Washington, DC 20006. Telephone: 202/296-4669. E-mail: info@bioethics.gov. Web site: http://www.bioethics.gov.

Dated: March 8, 2004.
Dean Clancy,
Executive Director, The President's Council on Bioethics.

[FR Doc. 04-5714 Filed 3-12-04; 8:45 am]

BILLING CODE 4150-24-P